ENVIRONMENTAL PROTECTION AGENCY

40 CFR Parts 52 and 81

[EPA-R07-OAR-2017-0734; FRL 9981-28—Region 7]

Air Plan Approval and Air Quality Designation; MO; Redesignation of the Missouri Portion of the St. Louis Missouri-Illinois Area to Attainment of the 1997 Annual Standards for Fine Particulate Matter and Approval of Associated Maintenance Plan

AGENCY: Environmental Protection Agency (EPA).

ACTION: Proposed rule.

SUMMARY: On January 5, 2018, the Environmental Protection Agency (EPA) published in the Federal Register an advanced notice of proposed rulemaking (ANPR) specifically requesting early input and comments on the Agency's interpretation that air quality monitoring data from 2015-2017 support a finding that the Missouri Portion of the St. Louis nonattainment area attains the 1997 Annual National Ambient Air Quality Standards (NAAQS) for fine particulate matter (PM2.5). The notice also provided an evaluation of Missouri's 1997 Annual PM2.5 NAAQS maintenance plan, which includes the 2008 and 2025 NOX and PM2.5 motor vehicle emission budgets (MVEBs) and established the 2008 base year emissions inventory. EPA received no comments on the ANPR. EPA is now taking direct final action on three items, consistent with the ANPR. First, EPA is approving the state's request to redesignate the Missouri portion of the St. Louis MO-IL nonattainment area to attainment for the 1997 Annual PM2.5 NAAQS as the monitoring values demonstrate the area attains the standard. Second, EPA is approving the state implementation plan (SIP) revision containing a maintenance plan for the Missouri portion of the area including the motor vehicle emissions budget. Third, EPA is approving Missouri's 2008 base year emissions inventory in accordance with section 172(c)(3) of the CAA. In the “Rules and Regulations” section of this Federal Register, we are approving the state's SIP revisions as a direct final rule without a prior proposed rule. If we receive no adverse comment, we will not take further action on this proposed rule.

DATES: Comments must be received September 4, 2018.

ADDRESSES: Submit your comments, identified by Docket ID No. EPA-R07-OAR-2017-0734 to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

FOR FURTHER INFORMATION CONTACT: Lachala Kemp, Environmental Protection Agency, Air Planning and Development Branch, 11201 Renner Boulevard, Lenexa, Kansas 66219 at (913) 551-7214, or by email at kemp.lachala@epa.gov.

SUPPLEMENTARY INFORMATION: This document proposes to take action on the State of Missouri request to redesignate the Missouri portion of the St. Louis MO-IL nonattainment area to attainment for the 1997 Annual National Ambient Air Quality Standards (NAAQS) for fine particulate matter (PM2.5), and to approve the state's 2008 emissions inventory. We have published a direct final rule approving the State's SIP revision(s) in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects

40 CFR Part 52

Environmental protection, Air pollution control, Incorporation by reference, Intergovernmental relations, Nitrogen dioxide, Particulate matter, Reporting and recordkeeping requirements, Sulfur oxides, Volatile organic compounds.

40 CFR Part 81

Environmental protection, Administrative practice and procedure, Air pollution control, Designations and classifications, Intergovernmental relations, Nitrogen dioxide, Particulate matter, Reporting and recordkeeping requirements, Sulfur oxides, Volatile organic compounds.

Dated: July 16, 2018.
James B. Gulliford,
Regional Administrator, Region 7.

[FR Doc. 2018-16004 Filed 8-2-18; 8:45 am]

BILLING CODE 6560-50-P